DEPARTMENT OF COMMERCE

National Oceanic and Atmospheric Administration

RIN 0648-XA777

Atlantic Highly Migratory Species; Advisory Panel

AGENCY: National Marine Fisheries Service (NMFS), National Oceanic and Atmospheric Administration (NOAA), Commerce.

ACTION: Notice; solicitation of nominations.

SUMMARY: NMFS solicits nominations for the Atlantic Highly Migratory Species (HMS) Advisory Panel (AP). NMFS consults with and considers the comments and views of the HMS AP when preparing and implementing Fishery Management Plans (FMPs) or FMP amendments for Atlantic tunas, swordfish, sharks, and billfish. Nominations are being sought to fill one-third (11) of the seats on the HMS AP for a 3-year appointment. Individuals with definable interests in the recreational and commercial fishing and related industries, environmental community, academia, and non-governmental organizations will be considered for membership in the HMS AP.

DATES: Nominations must be received on or before December 5, 2011.

ADDRESSES: You may submit nominations and requests for the Advisory Panel Statement of Organization, Practices, and Procedures by any of the following methods:

• Email: HMSAP.Nominations@noaa.gov. Include in the subject line the following identifier: “HMS AP Nominations.”

• Mail: Jenni Wallace, Highly Migratory Species Management Division, NMFS, 1315 East-West Highway, Silver Spring, MD 20910.

• Fax: (301) 713-1917.

FOR FURTHER INFORMATION CONTACT: Jenni Wallace at (301) 427-8503.

SUPPLEMENTARY INFORMATION:

Introduction

The Magnuson-Stevens Fishery Conservation and Management Act (Magnuson-Stevens Act), 16 U.S.C. 1801 et seq., as amended by the Sustainable Fisheries Act, Public Law 104-297, provided for the establishment of Advisory Panels to assist in the collection and evaluation of information relevant to the development of any Fishery Management Plan (FMP) or FMP amendment. NMFS has consulted with the HMS AP on the FMP for Atlantic Tunas, Swordfish, and Sharks (final in April 1999), Amendment 1 to the Billfish FMP (final in April 1999), Amendment 1 to the 1999 FMP (final in November 2003), the Consolidated HMS FMP (final in July 2006), Amendments 1, 2, and 3 to the Consolidated HMS FMP (June 2009, April 2008, and March 2010, respectively), and on the development of the upcoming Amendments 4, 5, and 6 to the Consolidated HMS FMP.

Procedures and Guidelines

A. Nomination Procedures for Appointments to the Advisory Panel

Nomination packages should include:

1. The name of the applicant or nominee and a description of his/her interest in HMS or in particular species of sharks, swordfish, tunas, or billfish;

2. Contact information, including mailing address, phone, and email of the applicant or nominee;

3. A statement of background and/or qualifications;

4. A written commitment that the applicant or nominee shall actively participate in good faith in the meetings and tasks of the HMS AP; and

5. A list of outreach resources that the applicant has at his/her disposal to communicate HMS issues to various interest groups.

Tenure for the HMS AP

Member tenure will be for 3 years (36 months), with approximately one-third of the members' terms expiring on December 31 of each year. Nominations are sought for terms beginning January 2012 and expiring December 2014.

B. Participants

Nominations for the HMS AP will be accepted to allow representation from commercial and recreational fishing interests, the scientific community, and the environmental community who are knowledgeable about Atlantic HMS and/or Atlantic HMS fisheries. Current representation on the HMS AP, as shown in Table 1, consists of 12 members representing commercial interests, 12 members representing recreational interests, 4 members representing environmental interests, 4 academic representatives, and the International Commission for the Conservation of Atlantic Tunas (ICCAT) Advisory Committee Chairperson. Each HMS AP member serves a 3-year term with approximately one-third (11) of the total number of seats (33) expiring on December 31 of each year. NMFS seeks to fill 5 commercial, 3 recreational, 2 environmental, and 1 academic vacancy by December 31, 2011. NMFS will seek to fill vacancies based primarily on maintaining the current representation from each of the sectors. NMFS also considers species expertise and representation from the fishing regions (Northeast, Mid-Atlantic, South Atlantic, Gulf of Mexico, and Caribbean) to ensure the diversity and balance of the AP. Table 1 includes the current representation on the HMS AP by sector, region and species with terms that are expiring identified in bold. It is not meant to indicate that NMFS will only consider persons who have expertise in the species or fishing regions that are listed. Rather, NMFS will aim toward having as diverse and balanced an AP as possible.

Table 1— Current Representation on the HMS AP by Sector, Region, and Species
[Terms that are expiring are in bold. NMFS tries to maintain diversity and balance in representation among fishing regions and species; the AP Bylaws only dictate representation by Sector]
Sector | Fishing Region | Species | Date appointed | Date term expires
Academic | All | Tuna | 1/1/2009 | 12/31/2011
Academic | All | Tuna | 1/1/2010 | 12/31/2012
Academic | All | Shark | 1/1/2010 | 12/31/2012
Academic | All | Swordfish/HMS | 1/1/2010 | 12/31/2012
Commercial | Northeast | HMS | 1/1/2009 | 12/31/2011
Commercial | Northeast | Tuna | 1/1/2009 | 12/31/2011
Commercial | Southeast | HMS | 1/1/2009 | 12/31/2011
Commercial | Northeast | Tuna | 1/1/2009 | 12/31/2011
Commercial | Northeast | Tuna | 1/1/2009 | 12/31/2011
Commercial | Mid-Atlantic | Shark | 1/1/2010 | 12/31/2012
Commercial | Southeast | Swordfish/Tuna | 1/1/2010 | 12/31/2012
Commercial | Northeast | Tuna | 1/1/2011 | 12/31/2013
Commercial | Mid-Atlantic | HMS/Shark | 1/1/2011 | 12/31/2013
Commercial | Southeast | Swordfish | 1/1/2011 | 12/31/2013
Commercial | Gulf of Mexico | Shark | 1/1/2011 | 12/31/2013
Commercial | Gulf of Mexico | Shark | 1/1/2011 | 12/31/2013
Environmental | All | Shark | 1/1/2009 | 12/31/2011
Environmental | All | Shark | 1/1/2009 | 12/31/2011
Environmental | All | Tuna | 1/1/2011 | 12/31/2013
Environmental | All | Tuna | 1/1/2011 | 12/31/2013
Recreational | Northeast | Tuna/Shark | 1/1/2009 | 12/31/2011
Recreational | Mid-Atlantic | HMS | 1/1/2009 | 12/31/2011
Recreational | Mid-Atlantic | Tuna | 1/1/2009 | 12/31/2011
Recreational | Northeast | Tuna/Shark | 1/1/2010 | 12/31/2012
Recreational | Southeast | Swordfish | 1/1/2010 | 12/31/2012
Recreational | Northeast | Tuna | 1/1/2010 | 12/31/2012
Recreational | All | HMS | 1/1/2010 | 12/31/2012
Recreational | Mid-Atlantic | HMS | 1/1/2010 | 12/31/2012
Recreational | Southeast | HMS | 1/1/2011 | 12/31/2013
Recreational | Mid-Atlantic | HMS | 1/1/2011 | 12/31/2013
Recreational | All | Billfish | 1/1/2011 | 12/31/2013
Recreational | Gulf of Mexico | HMS | 1/1/2011 | 12/31/2013

Regardless of fishing region or species, each sector must be adequately represented, and the intent is to have a group that, as a whole, reflects an appropriate and equitable balance and mix of interests given the responsibilities of the HMS AP. Criteria for membership include one or more of the following: (1) Experience in the HMS recreational fishing industry; (2) experience in the HMS commercial fishing industry; (3) experience in fishery-related industries (e.g., marinas, bait and tackle shops); (4) experience in the scientific community working with HMS; and/or (5) representation of a private, non-governmental, regional, national, or international organization representing marine fisheries; or environmental, governmental, or academic interests dealing with HMS.

Five additional members on the HMS AP include one member representing each of the following Councils: New England Fishery Management Council, the Mid-Atlantic Fishery Management Council, the South Atlantic Fishery Management Council, the Gulf of Mexico Fishery Management Council, and the Caribbean Fishery Management Council. The HMS AP also includes 22 ex-officio participants: 20 representatives of the coastal states and two representatives of the interstate commissions (the Atlantic States Marine Fisheries Commission and the Gulf States Marine Fisheries Commission).

NMFS will provide the necessary administrative support, including technical assistance, for the HMS AP. However, NMFS will not compensate participants with monetary support of any kind. Depending on availability of funds, members may be reimbursed for travel costs related to the HMS AP meetings.

C. Meeting Schedule

Meetings of the HMS AP will be held as frequently as necessary but are routinely held twice each year in the spring and fall. The meetings may be held in conjunction with public hearings.

Dated: October 31, 2011.
Steven Thur,
Acting Director, Office of Sustainable Fisheries, National Marine Fisheries Service.

[FR Doc. 2011-28553 Filed 11-2-11; 8:45 am]

BILLING CODE 3510-22-P